DEPARTMENT OF ENERGY

Federal Energy Regulatory Commission

[Docket No. CP00-36-000]

Guardian Pipeline, L.L.C.; Notice of Availability of the Draft Environmental Impact Statement for the Proposed Guardian Pipeline Project

July 10, 2000.

The staff of the Federal Energy Regulatory Commission (FERC or Commission) has prepared this draft environmental impact statement (draft EIS) on natural gas pipeline facilities proposed by Guardian Pipeline, L.L.C. (Guardian) in the above-referenced docket.

The draft EIS was prepared to satisfy the requirements of the National Environmental Policy Act. The staff concludes that approval of the proposed project, with appropriate mitigating measures as recommended, would have limited adverse environmental impact. The draft EIS evaluates alternatives to the proposal, including system alternatives; route alternatives; and minor route variations.

The draft EIS assesses the potential environmental effects of the construction and operation of the following facilities in Illinois and Wisconsin:

• 140.2 miles of 36-inch diameter pipeline extending from Joliet, Illinois to Ixonia, Wisconsin;

• 8.5 miles of 16-inch-diameter lateral pipeline in Walworth and Waukesha Counties, Wisconsin (Eagle Lateral);

• A total of 0.16 mile of 30, 24, and 16-inch-diameter pipeline to connect the project to existing pipeline systems in Will County, Illinois;

• One 25,080-horsepower compressor station (Joliet Compressor Station) in Will County, Illinois;

• Seven new meter stations; and

• Associated pipeline facilities, including eight mainline valves.

Wisconsin Gas Company (WGC) also proposes to construct about 35 miles of 30−, 24−, and 16-inch diameter pipeline (WGC Lateral Line Project) extending eastward from the northern terminus of the Guardian Pipeline in Wisconsin. WGC's Lateral Line Project is under the jurisdiction of the Public Service Commission of Wisconsin (PSCW). Although these facilities are not under the jurisdiction of the FERC, they are analyzed in this draft EIS. The PSCW is participating in the EIS process as a cooperating agency, as is the Wisconsin Department of Natural Resources (WIDNR). FERC is coordinating the public comment process on the draft EIS and will share any comments on the WGC Lateral Line Project with the PSCW and WIDNR.

The purpose of the Guardian Pipeline Project is to transport up to 750,000 decatherms per day of natural gas from the Chicago Hub to markets in northern Illinois and Wisconsin. According to Guardian, the project would:

• Introduce a competitive alternative natural gas pipeline to markets in northern Illinois and Wisconsin;

• Provide area shippers with access to competing providers of transportation, storage, and related services at or upstream of the Chicago Hub; and

• Contribute toward increasing electric reliability in the upper Midwest by providing additional pipeline capacity to meet the growth in gas-fired electric generation plants.

Comment Procedures and Public Meetings

Any person wishing to comment on the draft EIS may do so. To ensure consideration of your comments on the proposal in the final EIS, it is important that we receive your comments before the date specified below. Please carefully follow these instructions to ensure that your comments are received in time and properly recorded:

• Send two copies of your comments to: Secretary, Federal Regulatory Energy Commission, 888 First St., N.E., Room 1A, Washington, DC 20426;

• Label one copy of the comments for the attention of the DEER Gas Group 1, PJ 11.1;

• Reference Docket No. CP00-36-000; and

• Mail your comments so that they will be received in Washington, DC on or before August 28, 2000.

In addition to written comments, we will hold four public meetings in the project area to receive comments on the draft EIS. All meetings will begin at 7 p.m., and are scheduled as follows:

August 14, 2000

Joliet, Illinois, Fireside Resort Hotel, 4200 West Jefferson, (815) 725-0111

DeKalb, Illinois, Northern Illinois University, Holmes Student Center, Normal & Lucinda Roads, (815) 753-1744

August 15, 2000

Delavan, Wisconsin, Lake Lawn Lodge, 2400 East Geneva St., (800) 338-5253

Oconomowoc, Wisconsin, Olympia Conference Center, 1350 Royale Mile Road, (800) 558-9573

Interested groups and individuals are encouraged to attend and present oral comments on the environmental impact described in the draft EIS. Transcripts of the meetings will be prepared.

After these comments are reviewed, any significant new issues are investigated, and modifications are made to the draft EIS, a final EIS will be published and distributed by the staff. The final EIS will contain the staff's responses to timely comments filed on the draft EIS.

Comments will be considered by the Commission but will not serve to make the commenter a party to the proceeding. Any person seeking to become a party to the proceeding must file a motion to intervene pursuant to Rule 214 of the Commission's Rules of Practice and Procedures (18 CFR 385.214).

Anyone may intervene in this proceeding based on this draft EIS. You must file your request to intervene as specified above. You do not need intervener status to have your comments considered.

This draft EIS has been placed in the public files of the FERC and is available for public inspection at: Federal Regulatory Commission, Public Reference and Files Maintenance Branch, 888 First Street, N.E., Washington, D.C. 20426, (202) 208-1371.

A limited number of copies are available from the Public Reference and Files Maintenance Branch identified above. In addition, copies of the draft EIS have been mailed to Federal, state, and local agencies, public interest groups, individuals who have requested the draft EIS, newspapers, and parties to this proceeding.

Additional information about the proposed project is available from Paul McKee in the Commission's Office of External Affairs, at (202) 208-1088 or on the FERC Internet website (www.ferc.fed.us) using the “RIMS” link to information in this docket number. Click on the “RIMS” link, select “Docket #” from the RIMS Menu, and follow the instructions. Or assistance with access to RIMS, the RIMS helpline can be reached at (202) 208-2222.

Similarly, the “CIPS” link on the FERC Internet website provides access to the texts of formal documents issued by the Commission, such as orders, notices, and rulemakings. From the FERC Internet website, click on the “CIPS” link, select “Docket #” from the CIPS menu, and follow the instructions. For assistance with access to CIPS, the CIPS helpline can be reached at (202) 208-2474.

David P. Boergers,
Secretary.

[FR Doc. 00-17816 Filed 7-13-00; 8:45 am]

BILLING CODE 6717-01-M